DEPARTMENT OF DEFENSE

Department of the Army

NAF Contracting Regulation, AR 215—4

AGENCY: Department of the Army, DOD.

ACTION: Notice; final policy.

SUMMARY: This publication was last published October 10, 1990. It has been updated and revised to include best value acquisition practices, acquisition streamlining, participation in the government/nonappropriated fund (NAF) purchase card program, implementation of a NAF automated procurement system, and reassignment of signature authority in keeping with the Army's recent restructuring that resulted in the establishment of the new Installation Management Agency (IMA).

The public was not and will not be invited to comment on AR 215-4, NAF Contracting Regulation. Although the policy contained in this regulation affects the public as defined in Title 44, this regulation will not be codified. This notice is being published for the purpose of notifying the public as to how Nonapproporiated Fund Contracting activities will conduct its business.

EFFECTIVE DATE: March 11, 2005.

FOR FURTHER INFORMATION CONTACT: Ms. Maary Keeney, Chief, Policy Division, Nonappropriated Fund (NAF) Contracting Directorate, U.S. Army Community and Family Support Center (USACFSC), (703) 681-5245.

SUPPLEMENTARY INFORMATION: This publication applies to U.S. Army NAF contracting activities. It does not apply to the Army and Air Force Exchange Service (AAFES), the U.S. Army Reserve (USAR), the Army National Guard (ARNG), and the Chaplain's Fund, Plan Trust, and the NAF Banking and Investment Fund (investment contracts only). The public may view AR 215-4, Nonappropriated Fund Contracting Regulation is available at http://www.apd.army.mil/pdffiles/r215_4.pdf.

Regulatory Flexibility Act: This action is not considered rule-making within the maning of the Regulatory Flexibility Act, 5 U.S.C. 601-612.

Paperwork Reduction Act: The Paperwork Reduction Act, 44 U.S.C. 3051 et seq., does not apply because no information collection or record-keeping requirements are imposed on contractors, offerors, or members of the public.

Brenda S. Bowen,
Army Federal Register Liaison Officer.

[FR Doc. 05-5925 Filed 3-24-05; 8:45 am]

BILLING CODE 3710-08-M